DEPARTMENT OF TRANSPORTATION

Surface Transportation Board

[Docket No. FD 35466 (Sub-No. 1)]

BNSF Railway Company—Temporary Trackage Rights Exemption—Union Pacific Railroad Company

AGENCY: Surface Transportation Board.

ACTION: Partial revocation of exemption.

SUMMARY: Under 49 U.S.C. 10502, the Board revokes the class exemption as it pertains to the trackage rights described in Docket No. FD 35466 ¹ to permit the trackage rights to expire at midnight on December 10, 2011, in accordance with the agreement of the parties, subject to the employee protective conditions set forth in Oregon Short Line Railroad—Abandonment Portion Goshen Branch Between Firth & Ammon, in Bingham & Bonneville Counties, Idaho, 360 I.C.C. 91 (1979).

¹ On February 8, 2011, the BNSF Railway Company (BNSF) filed a verified notice of exemption under the Board's class exemption procedures at 49 CFR 1180.2(d)(7). The notice covered the agreement by Union Pacific Railroad Company (UP) to grant local trackage rights to BNSF over UP's lines extending between: (1) UP milepost 93.2 at Stockton, Cal., on UP's Oakland Subdivision, and UP milepost 219.4 at Elsey, Cal., on UP's Canyon Subdivision, a distance of approximately 126.2 miles; and (2) UP milepost 219.4 at Elsey, Cal., and UP milepost 280.7 at Keddie, Cal., on UP's Canyon Subdivision, a distance of 61.3 miles. BNSF states that the trackage rights are only temporary rights, but, because they are “local” rather than “overhead” rights, they do not qualify for the Board's class exemption for temporary trackage rights at 49 CFR 1180.2(d)(8). See BNSF Ry.—Temporary Trackage Rights Exemption—Union Pac. R.R., FD 35466 (STB served Feb. 24, 2011).

DATES: This exemption will be effective on May 5, 2011. Petitions to stay must be filed by April 15, 2011. Petitions for reconsideration must be filed by April 25, 2011.

ADDRESSES: An original and 10 copies of all pleadings, referring to Docket No. FD 35466 (Sub-No. 1), must be filed with the Surface Transportation Board, 395 E Street, SW., Washington, DC 20423-0001. In addition, a copy of each pleading must be served on BNSF's representative: Karl Morell, Of Counsel, Ball Janik LLP, Suite 225, 1455 F Street, NW., Washington, DC 20005.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. Board decisions and notices are available on our Web site at http://www.stb.dot.gov.

Decided: March 30, 2011.
By the Board, Chairman Elliott and Commissioner Mulvey.
Jeffrey Herzig,
Clearance Clerk.

[FR Doc. 2011-7998 Filed 4-4-11; 8:45 am]

BILLING CODE 4915-01-P